DEPARTMENT OF ENERGY

Federal Energy Regulatory Commission

Combined Notice of Filings #2

Take notice that the Commission received the following electric rate filings:

Docket Numbers: ER10-2265-009; ER12-21-019; ER11-2211-008; ER11-2209-008; ER11-2210-008; ER11-2207-008; ER11-2206-008; ER13-1150-006; ER13-1151-006; ER10-2783-013; ER10-2784-013; ER11-2855-019; ER10-2791-014; ER10-2333-007; ER10-2792-014; ER14-1818-009; ER12-1238-006; ER10-2260-006; ER10-2261-006; ER10-2337-008; ER14-1668-005; ER14-1669-005; ER14-1674-005; ER14-1670-005; ER14-1671-005; ER14-1675-005; ER14-1673-005; ER14-1676-005; ER14-1677-005; ER14-1678-005; ER14-1679-005; ER14-1672-005; ER10-2795-013; ER10-2798-013; ER10-1575-012; ER10-2338-011; ER10-2340-011; ER12-1239-006; ER10-2336-007; ER10-2335-007; ER13-1991-007; ER13-1992-007.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Arthur Kill Power LLC, Astoria Gas Turbine Power LLC, Avenal Park LLC, Bayou Cove Peaking Power, LLC, Bendwind, LLC, Big Cajun I Peaking Power LLC, Boston Energy Trading and Marketing LLC, Broken Bow Wind, LLC, Cabrillo Power I LLC, Cabrillo Power II LLC, CL Power Sales Eight, L.L.C., Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC, Conemaugh Power LLC, Connecticut Jet Power LLC, Cottonwood Energy Company LP, CP Power Sales Nineteen, L.L.C., CP Power Sales Twenty, L.L.C., Crofton Bluffs Wind, LLC, DeGreeff DP, LLC, DeGreeffpa, LLC, Desert Sunlight 250, LLC, Desert Sunlight 250, LLC.

Description: Notice of Change in Status of NRG MBR Sellers [Part 1 of 3].

Filed Date: 12/30/15.

Accession Number: 20151230-5304.

Comments Due: 5 p.m. ET 1/20/16.

Docket Numbers: ER10-2794-018; ER14-2672-003; ER12-1825-016.

Applicants: EDF Trading North America, LLC, EDF Energy Services, LLC, EDF Industrial Power Services (CA), LLC.

Description: Updated Market Power Analysis for the Southwest Power Pool Region of the EDF Sellers.

Filed Date: 12/30/15.

Accession Number: 20151230-5191.

Comments Due: 5 p.m. ET 2/29/16.

Docket Numbers: ER10-2794-019; ER14-2672-004; ER12-1825-017.

Applicants: EDF Trading North America, LLC, EDF Energy Services, LLC, EDF Industrial Power Services (CA), LLC.

Description: Updated Market Power Analysis for the Southwest Region of the EDF Sellers.

Filed Date: 12/30/15.

Accession Number: 20151230-5207.

Comments Due: 5 p.m. ET 2/29/16.

Docket Numbers: ER13-1562-005.

Applicants: Catalina Solar Lessee, LLC.

Description: Southwest Region Triennial Updated Market Power Analysis of Catalina Solar Lessee, LLC.

Filed Date: 12/29/15.

Accession Number: 20151229-5347.

Comments Due: 5 p.m. ET 2/29/16.

Docket Numbers: ER15-758-001.

Applicants: PJM Interconnection, L.L.C.

Description: Compliance filing: Correction Filing to 2015 Annual Allocation Update to be effective 1/1/2015.

Filed Date: 12/30/15.

Accession Number: 20151230-5141.

Comments Due: 5 p.m. ET 1/20/16.

Docket Numbers: ER15-2205-003.

Applicants: Prairie Breeze Wind Energy III LLC.

Description: Triennial Report of Prairie Breeze Wind Energy III LLC.

Filed Date: 12/30/15.

Accession Number: 20151230-5222.

Comments Due: 5 p.m. ET 2/29/16.

Docket Numbers: ER15-2647-001.

Applicants: Tres Amigas, LLC.

Description: Compliance filing: Compliance to be effective 12/10/2015.

Filed Date: 12/30/15.

Accession Number: 20151230-5278.

Comments Due: 5 p.m. ET 1/13/16.

Docket Numbers: ER16-665-000.

Applicants: Public Service Company of Colorado.

Description: Section 205(d) Rate Filing: 2015-12-30_PSC-Brlngtn Mtr Agrmt-402 0.0.0 to be effective 2/29/2016.

Filed Date: 12/30/15.

Accession Number: 20151230-5133.

Comments Due: 5 p.m. ET 1/20/16.

Docket Numbers: ER16-666-000.

Applicants: Niagara Mohawk Power Corporation, New York Independent System Operator, Inc.

Description: Section 205(d) Rate Filing: NPPC NYPA Amended Service Agreement No. 2177 to be effective 9/30/2015.

Filed Date: 12/30/15.

Accession Number: 20151230-5206.

Comments Due: 5 p.m. ET 1/20/16.

Docket Numbers: ER16-667-000.

Applicants: Duke Energy Carolinas, LLC.

Description: Section 205(d) Rate Filing: Amendments to SCPSA and CEPCI NITSA and Metering Agmts to be effective 1/1/2016.

Filed Date: 12/30/15.

Accession Number: 20151230-5208.

Comments Due: 5 p.m. ET 1/20/16.

Docket Numbers: ER16-668-000.

Applicants: PJM Interconnection, L.L.C., Ohio Power Company.

Description: Section 205(d) Rate Filing: AEP submits 46th Revised Service Agreement No. 1336 to be effective 11/30/2015.

Filed Date: 12/30/15.

Accession Number: 20151230-5294.

Comments Due: 5 p.m. ET 1/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2015.
Nathaniel J. Davis, Sr.,
Deputy Secretary.

[FR Doc. 2015-33224 Filed 1-5-16; 8:45 am]

BILLING CODE 6717-01-P